DEPARTMENT OF THE TREASURY

Office of Thrift Supervision

[AC-07: OTS Nos. 17968, H4021, H4099, and H4345]

Westfield Bank, Westfield Mutual Holding Company, Westfield Financial, Inc., and New Westfield Financial, Inc., Westfield, MS; Approval of Conversion Application

Notice is hereby given that on November 8, 2006, the Assistant Managing Director, Examinations and Supervision—Operations, Office of Thrift Supervision (OTS), or her designee, acting pursuant to delegated authority, approved the application of Westfield Mutual Holding Company and Westfield Bank, Westfield, Massachusetts, to convert to the stock form of organization. Copies of the application are available for inspection by appointment (phone number: 202-906-5922 or e-mail: Public.Info@OTS.Treas.gov) at the Public Reading Room, 1700 G Street, NW., Washington, DC 20552, and OTS Northeast Regional Office, Harborside Financial Center Plaza Five, Suite 1600, Jersey City, NJ 07311.

Dated: December 22, 2006.
By the Office of Thrift Supervision.
Sandra E. Evans
Legal Information Assistant.

[FR Doc. 06-9915 Filed 12-28-06; 8:45 am]

BILLING CODE 6720-01-M